DEPARTMENT OF HEALTH AND HUMAN SERVICES

National Institutes of Health

Center for Scientific Review; Amended Notice of Meeting

Notice is hereby given of a change in the meeting of the Center for Scientific Review Special Emphasis Panel, June 18, 2007, 8:30 a.m. to June 18, 2007, 6 p.m. The River Inn, 924 25th Street, NW., Washington, DC 20037 which was published in the Federal Register on May 22, 2007, 72 FR 28706-28708.

The meeting will be held July 27, 2007, 8:30 a.m. to 6 p.m. at the George Washington University Inn, 824 New Hampshire Avenue, NW., Washington, DC 20037. The meeting is closed to the public.

Dated: July 12, 2007.
Jennifer Spaeth,
Director, Office of Federal Advisory Committee Policy.

[FR Doc. 07-3525 Filed 7-19-07; 8:45 am]

BILLING CODE 4140-01-M